DEPARTMENT OF AGRICULTURE

Agricultural Marketing Service

[Docket Number FV-04-303]

United States Standards for Grades of Field Grown Leaf Lettuce

AGENCY: Agricultural Marketing Service, USDA.

ACTION: Reopening and extension of the comment period.

SUMMARY: Notice is hereby given that the comment period on possible development of United States Standards for Grades of Field Grown Leaf Lettuce is reopened and extended.

DATES: Comments must be received by September 19, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; fax (202) 720-8871; e-mail FPB.DocketClerk@usda.gov.

Comments should make reference to the dates and page number of this issue of the Federal Register and will be made available for public inspection in the above office during regular business hours. The proposed United States Standards for Grades of Field Grown Leaf Lettuce is available at either the above address, or by accessing the AMS, Fresh Products Branch Web site at: http://www.ams.usda.gov/fv/fpbdocketlist.htm.

FOR FURTHER INFORMATION CONTACT: David L. Priester, at the above address or call (202) 720-2185; e-mail David.Priester@usda.gov.

SUPPLEMENTARY INFORMATION: A notice was published in the Federal Register, March 24, 2005, (70 FR 15065) requesting comments on the possible development of the United States Standards for Grades of Field Grown Leaf Lettuce. The proposed standards would provide industry with a common language and uniform basis for trading, thus promoting the orderly and efficient marketing of field grown leaf lettuce. Additionally, the Agricultural Marketing Service (AMS) is seeking any comments related to the proposed standards that may be necessary to better serve the industry. The comment period ended May 23, 2005.

A comment was received from a national industry association representing independent produce wholesale receivers, expressing the need for additional time to comment. The association requested the comment period be extended to allow the association an opportunity to meet further with their members to discuss the proposed standards.

After reviewing the request, AMS is reopening and extending the comment period in order to allow sufficient time for interested persons, including the association, to file comments.

Authority: 7 U.S.C. 1621-1627.

Dated: July 15, 2005.
Kenneth C. Clayton,
Acting Administrator, Agricultural Marketing Service.

[FR Doc. 05-14386 Filed 7-20-05; 8:45 am]

BILLING CODE 3410-02-P